FEDERAL COMMUNICATIONS COMMISSION

47 CFR Parts 73 and 74

[MB Docket No. 04-233; FCC 07-218]

Report on Broadcast Localism and Notice of Proposed Rulemaking

AGENCY: Federal Communications Commission.

ACTION: Proposed rule.

SUMMARY: This document provides a summary of the public comments and reply comments received in response to the Federal Communications Commission's Notice of Inquiry concerning broadcast localism and the testimony received at the six field hearings on localism. The document also outlines several proposed rule changes designed to enhance broadcast localism and diversity, to increase and improve the amount and nature of broadcast programming that is targeted to the local needs and interests of a licensee's community of service, and provide more accessible information to the public about broadcasters' efforts to air such programming. It seeks comment on those such proposals that are not the subject of other ongoing or contemplated Commission rulemaking proceedings.

DATES: Comments are due on or before March 14, 2008. Reply comments are due on or before April 14, 2008.

ADDRESSES: You may submit comments, identified by MB Docket No. 04-233, by any of the following methods:

• Federal eRulemaking Portal: http://www.regulations.gov. Follow the instructions for submitting comments.

• Federal Communications Commission's Web site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document. In addition to filing comments with the Office of the Secretary, a copy of any comments on the Paperwork Reduction Act information collection requirements contained herein should be submitted to Cathy Williams, Federal Communications Commission, 445 12th St, SW., Room 1-C823, Washington, DC 20554, or via the Internet at PRA@fcc.gov; and also to Nicholas A. Fraser of the Office of Management and Budget (OMB), via Internet at Nicholas_A._Fraser@omb.eop.gov or via fax at (202) 395-5167.

FOR FURTHER INFORMATION CONTACT: For additional information on this proceeding, please contact Jeremy M. Kissel, Media Bureau, Policy Division, at (202) 418-2120, or via e-mail at Jeremy.Kissel@fcc.gov.

For additional information concerning the Paperwork Reduction Act information collection requirements contained in this document, contact Cathy Williams at 202-418-2918, or via the Internet at PRA@fcc.gov.

SUPPLEMENTARY INFORMATION: This is a summary of the Commission's Report on Broadcast Localism and Notice of Proposed Rulemaking, FCC 07-218, adopted on December 18, 2007, and released on January 24, 2008 (Report). The full text of this document is available for public inspection and copying during regular business hours in the FCC Reference Center, Federal Communications Commission, 445 12th Street, SW., CY-A257, Washington, DC 20554. This document will also be available via ECFS (http://www.fcc.gov/cgb/ecfs/). (Documents will be available electronically in ASCII, Word 97, and/or Adobe Acrobat.) The complete text may be purchased from the Commission's copy contractor, 445 12th Street, SW., Room CY-B402, Washington, DC 20554. To request this document in accessible formats (computer diskettes, large print, audio recording, and Braille), send an e-mail to fcc504@fcc.gov or call the Commission's Consumer and Governmental Affairs Bureau at (202) 418-0530 (voice), (202) 418-0432 (TTY).

1. In August 2003, the Commission launched a Localism in Broadcasting initiative to review, and possibly enhance, localism practices among broadcasters, which are designed to ensure that each station treats the significant needs and issues of the community that it is licensed to serve with the programming that it offers. In addition to establishing procedures by which the Commission would study the state of broadcast localism and take any steps necessary to strengthen such efforts by licensees, on July 1, 2004, the Commission issued a Notice of Inquiry (NOI) concerning localism. Through the NOI, the Commission sought direct input from the public on how broadcasters are serving the interests and needs of their communities; whether the agency needs to adopt new policies, practices, or rules designed directly to promote localism in broadcast television and radio; and, if so, what those policies, practices, or rules should be.

2. The NOI took note that, during the Commission's 2002 review of its structural broadcast ownership rules, the agency received public comments indicating that many broadcasters may be failing to meet the needs of their local communities. In response, the Commission opened a separate inquiry proceeding (MB Docket No. 04-233) to seek public input on a number of issues related to broadcast localism. Among them were questions as to how broadcasters are communicating with the communities that they serve and are serving the needs of those communities, including whether stations are airing a sufficient amount of community-responsive programming, such as news, political material and disaster warnings, as well as the state of their service to traditionally underserved audiences. It also sought comment on the relationship between networks and their affiliated stations, payola and sponsorship identification, the license renewal process and possible additional spectrum allocations. The NOI also asked whether, based on that analysis, the Commission should take action to ensure that licensees meet their localism obligations or, in the alternative, should continue to rely on market forces and the existing issue-responsive programming rules to encourage broadcasters to meet their obligations.

3. In the Report, the Commission summarizes the record of the comments and testimony amassed in the localism proceeding for each of the nine general localism areas of inquiry specified in the NOI: (1) Communication between licensees and their stations' communities; (2) nature and amount of community-responsive programming; (3) political programming; (4) underserved audiences; (5) disaster warnings; (6) network affiliation rules; (7) payola/sponsorship identification; (8) license renewal procedures; and (9) additional spectrum allocations. The Commission then provides an analysis of the pertinent record, and notes those areas in which the Commission believes that revision of its rules, procedures, and policies may be called for to ensure that broadcasters effectively meet the needs and problems of their communities with the programming that they air.

4. Specifically, in the Report, the Commission directs the Media Bureau to update The Public and Broadcasting publication to include information concerning the broadcast renewal process, applicable deadlines, and complaint procedures; states its intention to establish a Commission contact point dedicated to providing information to members of the public regarding how they can become involved in the Commission's processes; notes its intention to begin a proceeding to propose rules promoting access by cable and satellite subscribers to the programming of television broadcast stations licensed to communities in the states in which they live to address situations in which cable and satellite subscribers often do not receive the local news and information provided by an in-state station because the Commission's rules effectively require carriage of an out-of-state station; directs the Media Bureau's Audio Division to develop a new computer program to assist potential radio applicants in identifying suitable available commercial FM spectrum in the location from which they desire to operate; and reiterates its intention to address the issues in the Emergency Alert System proceeding within six months. The Commission also calls for comment on the topics described below.

5. Renewal Application Pre- and Post-Filing Announcements. The Commission seeks comment on whether it should change its existing rule governing the so-called “pre-filing and post-filing announcements” that licensees must air in connection with their renewal applications, and calls for comment on these new measures. In addition to the existing requirement for on-air announcements about soon-to-be-filed and pending renewal applications, the Commission seeks comment on whether it should require that the same information be posted on a licensee's Web site during the relevant months (i.e., the posting begins on the sixth month before the license is due to expire and remains in place until after the deadline for filing petitions to deny). The Commission also seeks comment on whether it should broaden the required language for the announcements contained in 47 CFR 73.3580(d)(4)(i), which currently provides the Commission's mailing address as a source for information concerning the broadcast license renewal process, to include the agency's Web site address. Moreover, the Commission seeks comment on whether, where technically feasible, the licensee's on-line provision of the Commission's web address could be linked directly to the agency's Web site.

6. Community Advisory Boards. The Commission seeks comment on its tentative conclusion that, to determine significant community needs and issues, licensees should convene and periodically consult with permanent advisory boards made up of officials and other leaders from the community of each broadcast station. The Commission believes that such community advisory boards will promote both localism and diversity and, as such, should be an integral component of the Commission's localism efforts. Accordingly, the Commission seeks comment on this proposal, and on other rules or guidelines that it might adopt to foster improved communication between licensees and members of their communities.

7. Remote Station Operation. The Commission notes that a number of commenters expressed concern about the prevalence of automated broadcast operations, which allow the operation of stations without a local presence, and the perceived negative impact that they have on licensees' ability to determine and serve local needs, in particular, providing vital information in times of emergency. In its recent Digital Audio Notice of Proposed Rulemaking, the Commission sought comment on whether changes in remote radio operation should affect existing rules. In that proceeding, the Commission is considering requiring that radio licensees maintain a physical presence at each radio broadcasting facility during all hours of operation. In the Report, the Commission seeks comment on whether it should extend any such requirement to television stations, as well as to radio facilities.

8. Renewal Application Processing Guidelines. The Commission also seeks comment on its tentative conclusion to adopt specific procedural guidelines for the processing of renewal applications for stations based upon their localism programming performance during the preceding license term. It also invites comment on any related issues that the Commission should consider in connection with the possible adoption of specific localism-related processing guidelines for broadcast renewal applications.

9. Main Studio Location. The Commission seeks comment on whether it should revert to its pre-1987 main studio rule, requiring that a station's main studio be situated within the station's community of license, in order to encourage broadcasters to produce locally originated programming. It seeks comment on this proposal, including whether accessibility of the main studio increases interaction between the broadcast station and the community of service.

10. Affiliate Station Review of Network Programming. The Commission seeks comment on whether it could be useful for licensees, in fulfilling their localism obligations, to be able to review network programming at some point sufficiently in advance of airtime to determine its appropriateness for airing. It seeks comment on whether this issue already has been addressed by existing affiliation agreement terms and, if private contractual arrangements have not addressed this issue, whether it should establish rules requiring such a right.

11. Voice-Tracking. The Commission seeks comment on the prevalence of voice-tracking, a practice by which stations import popular out-of-town personalities from bigger markets to smaller ones, and customize their programming to make it appear as if the personalities are actually local residents. It also seeks comment on whether the Commission can and should take steps to limit the practice, require disclosure, or otherwise address it.

12. Submission of Music Playlist Information. The Commission also seeks comment on whether it should require licensees to provide the Commission with data regarding their airing of the music and other performances of local artists and how they compile their stations' playlists, which the Commission would use in its consideration of the renewal applications of the stations to which they relate, in evaluating the overall station performance under localism. If so, the Commission seeks input as to in what form these disclosures should be required and what information should be supplied.

13. Upgrade of LPTV Stations to Class A Facilities. The Commission also seeks comment on its tentative conclusion to allow, in some cases, additional qualified low-power television stations to be granted Class A status and, if so, how it should define eligibility for such upgrades, and the Commission's statutory authority to take such action.

14. Pursuant to §§ 1.415 and 1.419 of the Commission's rules, 47 CFR 1.415, 1.419, interested parties may file comments and reply comments on or before the dates listed on the first page of this summary. All such filings should refer to MB Docket No. 04-233, unless otherwise instructed in the document. Comments may be filed using: (1) The Commission's Electronic Comment Filing System (ECFS), (2) the Federal Government's eRulemaking Portal, or (3) by filing paper copies. See Electronic Filing of Documents in Rulemaking Proceedings, 63 FR 24,121 (1998).

Procedural Matters

A. Initial Regulatory Flexibility Analysis

15. Pursuant to the Regulatory Flexibility Act (RFA), the Bureau has prepared an Initial Regulatory Flexibility Analysis (IRFA) of the possible significant economic impact on small entities by the proposals considered in the Report. The text of the IRFA is set forth in Appendix B of the Report. Written public comments are requested on this IRFA. Comments must be filed in accordance with the same filing deadlines as those for comments on the Report, and they should have a separate and distinct heading designating them as responses to the IRFA. The Bureau will send a copy of the Report, including the IRFA, to the Chief Counsel for Advocacy of the Small Business Administration.

B. Initial Paperwork Reduction Act of 1995 Analysis

16. This document contains new and modified information collection requirements subject to the Paperwork Reduction Act of 1995 (PRA), Public Law 104-13. It will be submitted to the Office of Management and Budget (OMB) for review under Section 3507(d) of the PRA. OMB, the general public, and other Federal agencies are invited to comment on the new or modified information collection requirements contained in this proceeding. In addition, pursuant to the Small Business Paperwork Relief Act of 2002, Public Law 107-198, see 44 U.S.C. 3506(c)(4), we seek specific comment on how we might “further reduce the information collection burden for small business concerns with fewer than 25 employees.”

Initial Regulatory Flexibility Analysis

17. As required by the Regulatory Flexibility Act, as amended (RFA), the Commission has prepared an Initial Regulatory Flexibility Analysis (IRFA) of the possible significant economic impact on a substantial number of small entities by the policies and rules considered in the Report. Written public comments are requested on this IRFA. Comments must be identified as responses to the IRFA and must be filed by the deadlines for comments on the Report as indicated on the first page of the Report. The Commission will send a copy of the Report, including this IRFA, to the Chief Counsel for Advocacy of the Small Business Administration (SBA). In addition, the Report and the IRFA (or summaries thereof) will be published in the Federal Register.

A. Need for, and Objectives of, the Proposed Rules

18. In August 2003, the Commission launched a Localism in Broadcasting initiative designed to review, and possibly enhance, localism practices among broadcasters which are designed to ensure that each station treats the significant needs and issues of the community that it is licensed to serve with the programming that it offers. The Commission subsequently issued a Notice of Inquiry (NOI) concerning localism. Through the NOI, the Commission sought direct input from the public on how broadcasters are serving the interests and needs of their communities; whether the agency needs to adopt new policies, practices, or rules designed directly to promote localism in broadcast television and radio; and, if so, what those policies, practices, or rules should be. The Report invites comment on several proposals designed to enhance broadcast localism and diversity, including increasing and improving the amount and nature of broadcast programming that is targeted to the local needs and interests of a licensee's community of service, and providing more accessible information to the public about broadcasters' efforts to air such programming.

19. The record in the proceeding demonstrates that some broadcasters devote significant amounts of time and resources to airing programming that is responsive to the needs and interests of broadcasters' communities of license, while many other commenters raised serious concerns that broadcasters' efforts, as a general matter, fall far short from what they should be. In the Report, the Commission details several proposals that will promote both localism and diversity in broadcasting, and seeks comment on same.

B. Legal Basis

20. The Report is adopted pursuant to sections 4(i), 303, 612, and 616 of the Communications Act of 1934, as amended, 47 U.S.C. 154(i), 303, 532 and 536.

C. Description and Estimate of the Number of Small Entities to Which the Proposed Rules Will Apply

21. The RFA directs agencies to provide a description of, and, where feasible, an estimate of the number of small entities that may be affected by the proposed rules, if adopted. The RFA defines the term “small entity” as having the same meaning as the terms “small business,” “small organization,” and “small governmental entity” under Section 3 of the Small Business Act. In addition, the term “small business” has the same meaning as the term “small business concern” under the Small Business Act. A small business concern is one which: (1) Is independently owned and operated; (2) is not dominant in its field of operation; and (3) satisfies any additional criteria established by the SBA.

22. Television Broadcasting. In this context, the application of the statutory definition to television stations is of concern. The Small Business Administration defines a television broadcasting station that has no more than $13 million in annual receipts as a small business. Business concerns included in this industry are those “primarily engaged in broadcasting images together with sound.” According to Commission staff review of the BIA Financial Network, Inc. Media Access Pro Television Database as of February 5, 2007, 872 (about 70 percent) of the 1,260 commercial television stations in the United States have revenues of $13 million or less. However, in assessing whether a business entity qualifies as small under the above definition, business control affiliations must be included. Our estimate, therefore, likely overstates the number of small entities that might be affected by any changes to the attribution rules, because the revenue figures on which this estimate is based do not include or aggregate revenues from affiliated companies.

23. An element of the definition of “small business” is that the entity not be dominant in its field of operation. The Commission is unable at this time and in this context to define or quantify the criteria that would establish whether a specific television station is dominant in its market of operation. Accordingly, the foregoing estimate of small businesses to which the rules may apply does not exclude any television stations from the definition of a small business on this basis and is therefore over-inclusive to that extent. An additional element of the definition of “small business” is that the entity must be independently owned and operated. It is difficult at times to assess these criteria in the context of media entities, and our estimates of small businesses to which they apply may be over-inclusive to this extent.

24. Radio Broadcasting. The Small Business Administration defines a radio broadcasting entity that has $6.5 million or less in annual receipts as a small business. Business concerns included in this industry are those “primarily engaged in broadcasting aural programs by radio to the public.” According to Commission staff review of the BIA Financial Network, Inc. Media Access Radio Analyzer Database as of February 5, 2007, 10,442 (about 95 percent) of 10,962 commercial radio stations in the United States have revenues of $6.5 million or less. We note, however, that in assessing whether a business entity qualifies as small under the above definition, business control affiliations must be included. Our estimate, therefore, likely overstates the number of small entities that might be affected by any changes to the ownership rules, because the revenue figures on which this estimate is based do not include or aggregate revenues from affiliated companies.

25. In this context, the application of the statutory definition to radio stations is of concern. An element of the definition of “small business” is that the entity not be dominant in its field of operation. We are unable at this time and in this context to define or quantify the criteria that would establish whether a specific radio station is dominant in its field of operation. Accordingly, the foregoing estimate of small businesses to which the rules may apply does not exclude any radio station from the definition of a small business on this basis and is therefore over-inclusive to that extent. An additional element of the definition of “small business” is that the entity must be independently owned and operated. We note that it is difficult at times to assess these criteria in the context of media entities, and our estimates of small businesses to which they apply may be over-inclusive to this extent.

26. FM Translator Stations and Low Power FM Stations. The proposed rules and policies could affect licensees of FM translator and booster stations and low power FM (LPFM) stations, as well as to potential licensees in these radio services. The same SBA definition that applies to radio broadcast licensees would apply to these stations. The SBA defines a radio broadcast station as a small business if such station has no more than $6.5 million in annual receipts. Currently, there are approximately 4,131 licensed FM translator and booster stations and 771 licensed LPFM stations. Given the nature of these services, we will presume that all of these licensees qualify as small entities under the SBA definition.

27. Cable Television Distribution Services. Since 2007, these services have been defined within the broad economic census category of Wired Telecommunications Carriers; that category is defined as follows: “This industry comprises establishments primarily engaged in operating and/or providing access to transmission facilities and infrastructure that they own and/or lease for the transmission of voice, data, text, sound, and video using wired telecommunications networks. Transmission facilities may be based on a single technology or a combination of technologies.” The SBA has developed a small business size standard for this category, which is: all such firms having 1,500 or fewer employees. To gauge small business prevalence for these cable services we must, however, use current census data that are based on the previous category of Cable and Other Program Distribution and its associated size standard; that size standard was: all such firms having $13.5 million or less in annual receipts. According to Census Bureau data for 2002, there were a total of 1,191 firms in this previous category that operated for the entire year. Of this total, 1,087 firms had annual receipts of under $10 million, and 43 firms had receipts of $10 million or more but less than $25 million. Thus, the majority of these firms can be considered small.

28. Cable Companies and Systems. The Commission has also developed its own small business size standards, for the purpose of cable rate regulation. Under the Commission's rules, a “small cable company” is one serving 400,000 or fewer subscribers, nationwide. Industry data indicate that, of 1,076 cable operators nationwide, all but 11 are small under this size standard. In addition, under the Commission's rules, a “small system” is a cable system serving 15,000 or fewer subscribers. Industry data indicate that, of 7,208 systems nationwide, 6,139 systems have under 10,000 subscribers, and an additional 379 systems have 10,000-19,999 subscribers. Thus, under this second size standard, most cable systems are small.

29. Cable System Operators. The Communications Act of 1934, as amended, also contains a size standard for small cable system operators, which is “a cable operator that, directly or through an affiliate, serves in the aggregate fewer than 1 percent of all subscribers in the United States and is not affiliated with any entity or entities whose gross annual revenues in the aggregate exceed $250,000,000.” The Commission has determined that an operator serving fewer than 677,000 subscribers shall be deemed a small operator, if its annual revenues, when combined with the total annual revenues of all its affiliates, do not exceed $250 million in the aggregate. Industry data indicate that, of 1,076 cable operators nationwide, all but ten are small under this size standard. We note that the Commission neither requests nor collects information on whether cable system operators are affiliated with entities whose gross annual revenues exceed $250 million, and therefore we are unable to estimate more accurately the number of cable system operators that would qualify as small under this size standard.

30. Open Video Services. Open Video Service (OVS) systems provide subscription services. The SBA has created a small business size standard for Cable and Other Program Distribution. This standard provides that a small entity is one with $13.5 million or less in annual receipts. The Commission has certified a large number of OVS operators, and some of these are currently providing service. Affiliates of Residential Communications Network, Inc. (RCN) received approval to operate OVS systems in New York City, Boston, Washington, DC, and other areas. RCN has sufficient revenues to assure that it does not qualify as a small business entity. Little financial information is available for the other entities that are authorized to provide OVS. Given this fact, the Commission concludes that those entities might qualify as small businesses, and therefore may be affected by the rules and policies adopted herein.

D. Description of Projected Reporting, Recordkeeping, and Other Compliance Requirements

31. The Report proposes a number of rule changes that, if adopted and implemented, may affect reporting, recordkeeping, and other compliance requirements on small entities. As noted above, we invite small entities to comment in response to the rules proposed in the Report. Each of the proposals is described below.

32. The Report seeks comment on whether the existing rules governing so-called “pre-filing and post-filing announcements” that licensees must air in connection with their license renewal applications should be changed. Specifically, the Commission seeks comment on whether the same information that is currently required for on-air announcements about soon-to-be-filed and pending renewal applications should be posted on a licensee's website during the relevant months (i.e., the posting begins on the sixth month before the license is due to expire and remains in place until after the deadline for filing petitions to deny). The Report also seeks comment on whether to broaden the required language for these announcements contained in 47 CFR 73.3680(d)(4)(i), which currently provides the Commission's mailing address as a source for information concerning the broadcast license renewal process, to include the agency's website address and, where technically feasible, to provide a link directly to the agency's Web site.

33. The Report invites comment on the Commission's tentative conclusion that licensees should convene and periodically consult with permanent community advisory boards made up of officials and other leaders from the community of each broadcast station for the purpose of determining significant community needs and issues, and whether the Commission should adopt similar rules or guidelines to foster licensees' communication with members of their stations' communities. It also seeks comment on whether television licensees should be required to maintain a physical presence at each television broadcasting facility during all hours of station operation. The Report further seeks comment on the Commission's tentative conclusion that it should adopt specific procedural guidelines for the processing of license renewal applications for stations based upon their localism programming performance during the preceding license term. The Report also seeks comment on whether a licensee should be required to situate its station main studio within the station's community of license to encourage production of locally originated programming, and whether accessibility of the main studio increases interaction between the licensee and its station's community of service.

34. The Report also seeks comment on whether it could be useful for licensees of stations affiliated with networks, in fulfilling their localism obligations, to be able to review network programming at some point sufficiently in advance of airtime and whether existing affiliation agreements address such matters. It also seeks comment on the prevalence of voice-tracking, and whether the Commission can and should take steps to limit the practice, require disclosure, or otherwise address it. The Report also seeks comment on whether the Commission should require licensees to provide the agency with data regarding their airing of the music and other performances of local artists and how they compile their stations' playlists. It also seeks comment on the appropriate form of such disclosures and in what manner, if any, the local nature of a station's music programming should be considered in any renewal application processing guidelines. Finally, the Report seeks comment on the Commission's tentative conclusion that it should allow additional qualified LPTV stations to be granted Class A status, as well as on how to define eligibility and the Commission's statutory authority to take such action.

E. Steps Taken To Minimize Significant Impact on Small Entities, and Significant Alternatives Considered

35. The RFA requires an agency to describe any significant alternatives that might minimize any significant economic impact on small entities. Such alternatives may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

36. As noted, we are directed under law to describe any such alternatives we consider, including alternatives not explicitly listed above. The Report describes and seeks comment on several possible ways to enhance broadcast localism and diversity, including increasing and improving the amount and nature of broadcast programming that is targeted to the local needs and interests of a licensee's community of service, and providing more accessible information to the public about broadcasters' efforts to air such programming. The Report seeks comment on how the proposals described herein will achieve that goal, and commenters are invited to propose steps that the Commission may take to minimize any significant economic impact on small entities.

F. Federal Rules That May Duplicate, Overlap, or Conflict With the Proposed Rules

37. None.

Ordering Clauses

38. Accordingly, it is ordered, pursuant to the authority found in sections 4(i), 303, 612, and 616 of the Communications Act of 1934, as amended, 47 U.S.C. 154(i), 303, 532 and 536, the Report on Broadcast Localism and Notice of Proposed Rulemaking is adopted.

39. It is further ordered that pursuant to sections 1, 4(i) and (j), 301, 302, 303, 307, 308, 309, 319, and 324 of the Communications Act of 1934, 47 U.S.C. 151, 154(i) and (j), 301, 302, 303, 307, 308, 309, 319, and 324 that notice is hereby given of the proposals and tentative conclusions described in the Report on Broadcast Localism and Notice of Proposed Rulemaking.

40. It is further ordered that the Reference Information Center, Consumer Information Bureau, shall send a copy of the Report on Broadcast Localism and Notice of Proposed Rulemaking, including the Flexibility Analysis, to the Chief Counsel for Advocacy of the Small Business Administration.

List of Subjects

47 CFR Part 73

Radio broadcast services.

47 CFR Part 74

Experimental radio, Auxiliary, Special broadcast and other program distributional services.

Federal Communications Commission.
Marlene H. Dortch,
Secretary.

[FR Doc. E8-2664 Filed 2-12-08; 8:45 am]

BILLING CODE 6712-01-P